DEPARTMENT OF ENERGY

Federal Energy Regulatory Commission

[Project No. 9079-006]

R.J. Fortier Hydropower, Inc., Northeast Community Services, Inc.; Notice of Transfer of Exemption

1. On September 18, 2023, Northeast Community Services, Inc. filed a notification of the transfer for the 65-kilowatt Upper Spears Stream Hydroelectric Project No. 9079 from R.J. Fortier Hydropower, Inc. to Northeast Community Services, Inc. The exemption from licensing was originally issued on September 30, 1985.¹ The project is located on the Upper Spears Stream, Oxford County, Maine. The transfer of an exemption does not require Commission approval.

¹ Mark A. Vaughn, 32 FERC ¶ 62,716 (1985). Subsequently, on March 31, 2004, the project was transferred to R.J. Fortier Hydropower Inc.

2. Northeast Community Services, Inc. is now the exemptee of the Upper Spears Stream Hydroelectric Project No. 9079. All correspondence must be forwarded to Tyler A. Hicks, President, Northeast Community Services, Inc., Massachusetts Address: 257 Union Street, New Bedford, MA 02740, Maine address: 10 Murray Street, Bingham, ME 04920, Phone: (508) 851-9158, email: northeastcommunityservices@gmail.com.

Dated: October 11, 2023.
Kimberly D. Bose,
Secretary.

[FR Doc. 2023-22888 Filed 10-16-23; 8:45 am]

BILLING CODE 6717-01-P